DEPARTMENT OF HEALTH AND HUMAN SERVICES

Centers for Disease Control and Prevention

CDC/HRSA Advisory Committee on HIV, Viral Hepatitis and STD Prevention and Treatment

In accordance with section 10(a)(2) of the Federal Advisory Committee Act (Pub. L. 92-463), the Centers for Disease Control and Prevention (CDC) and the Health Resources and Services Administration (HRSA) announce the following committee meeting.

Times and Dates: 8:30 a.m.-5:30 p.m., EDT, June 14, 2016; 8:30 a.m.-3:00 p.m., EDT, June 15, 2016.

Place: CDC Corporate Square, Building 8, Conference Room 1-ABC, 8 Corporate Boulevard, Atlanta, Georgia 30329, Telephone: (404) 639-8317. The meeting is also accessible by teleconference. Toll-free number +1 (877) 603-4228, Participant code: 42598858.

Status: Open to the public, limited only by the space available. The meeting room will accommodate approximately 100 people.

Purpose: This Committee is charged with advising the Director, CDC and the Administrator, HRSA, regarding activities related to prevention and control of HIV/AIDS, Viral Hepatitis and other STDs, the support of health care services to persons living with HIV/AIDS, and education of health professionals and the public about HIV/AIDS, Viral Hepatitis and other STDs.

Matters For Discussion: Agenda items include: (1) Syphilis among Men Who Have Sex with Men (MSM) and Congenital Syphilis; (2) Update on CDC's Medical Monitoring Project; (3) Discussion on Infectious Diseases prevention for people who inject drugs (PWID); (4) Findings of the Institute of Medicine Committee on A National Strategy for the Elimination of Hepatitis B and C: Feasible elimination goals and possible factors critical for success; and (5) Updates from Workgroups.

Agenda items are subject to change as priorities dictate.

Contact Person For More Information: Margie Scott-Cseh, CDC, National Center for HIV/AIDS, Viral Hepatitis, STD, and TB Prevention, 1600 Clifton Road NE., Mailstop E-07, Atlanta, Georgia 30333; telephone (404) 639-8317.

The Director, Management Analysis and Services Office, has been delegated the authority to sign Federal Register Notices pertaining to announcements of meetings and other committee management activities, for both the CDC and the Agency for Toxic Substances and Disease Registry.

Elaine L. Baker,
Director, Management Analysis and Services Office, Centers for Disease Control and Prevention (CDC).

[FR Doc. 2016-12224 Filed 5-23-16; 8:45 am]

BILLING CODE 4163-18-P